DEPARTMENT OF ENERGY

Federal Energy Regulatory Commission

[Docket No. EL02-76-000]

Holy Cross Energy, Inc., and Yampa Valley Electric Association, Complainants, v. Public Service Company of Colorado, Respondent; Notice of Complaint

April 18, 2002.

Take notice that on April 17, 2002, Holy Cross Energy, Inc. and Yampa Valley Electric Association (collectively, HCE/Yampa), tendered for filing with the Federal Energy Regulatory Commission (Commission), a complaint, a request for investigation, and a refund of Fuel Clause Adjustment (FCA) charges against Public Service Company of Colorado (PSCo). The Complaint alleges overcharges of FCA Charges under existing FERC Rate Schedules and in violation of Section 35.14 of the Commission's Regulations

Copies of the complaint filing were served on PSCo and the Colorado Public Utilities Commission.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before May 7, 2002. Protests will be considered by the Commission in determining the appropriate action to be taken, but will not serve to make protestants parties to the proceeding. Any person wishing to become a party must file a motion to intervene. Answers to the complaint shall also be due on or before May 7, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Linwood A. Watson, Jr.,
Deputy Secretary.

[FR Doc. 02-9997 Filed 4-23-02; 8:45 am]

BILLING CODE 6717-01-P